DEPARTMENT OF JUSTICE

Notice of Lodging of Consent Decree Under the Comprehensive Environmental Response, Compensation and Liability Act

Notice is hereby given that on October 31, 2007, a proposed Consent Decree in United States of America v. The Kansas City Southern Ry. Co., Civil Action No. 1:07-CV-1793, was lodged with the United States District Court for the Western District of Louisiana.

In this action the United States sought injunctive relief and recovery of costs under Comprehensive Environmental Response, Compensation, and Liability Act (“CERCLA”) sections 106(a) and 107, 42 U.S.C. 9606(a) and 9607, in connection with the release or threatened release of hazardous substances into the environment at the Ruston Foundry Superfund Site located at 1010 Bogan Street in Alexandria, Rapids Parish, Louisiana (“the Site”). The Consent Decree resolves the United States' claims in connection with the Site against The Kansas City Southern Railway Co. (“KCSR”) under CERCLA sections 106 and 107, 42 U.S.C. 9606 & 9607. Under the proposed Consent Decree, KCSR will (1) perform the remedy selected by the United States Environmental Protection Agency for the Site; (2) pay $750,000 to the United States for response costs incurred through October 30, 2006; and (3) pay all response costs incurred by the United States after October 30, 2006.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States of America v. The Kansas City Southern Ry. Co., D.J. Ref. 90-11-2-08002.

The Consent Decree may be examined at the Office of the United States Attorney, Western District of Louisiana, 800 Lafayette Street, Suite 2200, Lafayette, LA 70501, and at U.S. EPA Region 6, 1445 Ross Avenue, Dallas, TX 75202. During the public comment period, the Consent Decree, may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $71.75 (25 cents per page reproduction cost) for a complete copy of the Consent Decree with all exhibits or $14.25 (25 cents per page reproduction cost) for a copy of the Consent Decree exclusive of exhibits. If the request is made by e-mail or fax, please forward a check in the appropriate amount to the Consent Decree Library at the stated address. The check should be payable to the U.S. Treasury.

Thomas A. Mariani, Jr.,
Assistant Chief, Environmental Enforcement Section, Environment and Natural Resources Division.

[FR Doc. 07-5695 Filed 11-15-07; 8:45 am]

BILLING CODE 4410-15-M